DEPARTMENT OF TRANSPORTATION

Federal Aviation Administration

14 CFR Part 13

[Docket No. FAA-2016-70104; Amdt. Nos. 13-39A]

RIN 2120-AK90

2017 Revisions to the Civil Penalty Inflation Adjustment Tables; Correction

AGENCY: Federal Aviation Administration (FAA), DOT.

ACTION: Final rule; correction.

SUMMARY: The FAA is correcting a final rule published on April 10, 2017. In that rule, the FAA amended its regulations to provide the 2017 inflation adjustment to civil penalty amounts that may be imposed for violations of FAA regulations and the Hazardous Materials Regulations, as required by the Federal Civil Penalties Inflation Adjustment Act Improvements Act of 2015. It also finalized the catch-up inflation adjustment interim final rule required by the same Act. The FAA inadvertently stated the effective date for the new maximums/minimums was January 15, 2017, instead of April 10, 2017. This document amends the FAA's regulations to correct that error.

DATES: Effective July 7, 2017.

FOR FURTHER INFORMATION CONTACT: Cole R. Milliard, Attorney, Office of the Chief Counsel, Enforcement Division, AGC-300, Federal Aviation Administration, 800 Independence Avenue SW., Washington, DC 20591; telephone (202) 267-3452; email cole.milliard@faa.gov.

SUPPLEMENTARY INFORMATION:

Background

On April 10, 2017, the FAA published a final rule entitled, “2017 Revisions to the Civil Penalty Inflation Adjustment Tables” (82 FR 17097). In that final rule the FAA amended its regulations to provide the 2017 inflation adjustment to civil penalty maximums and minimums provided in title 14 Code of Federal Regulations (14 CFR) 13.301 and 406.9, as required by the Federal Civil Penalties Inflation Adjustment Act Improvements Act of 2015.

In the regulatory text, the FAA inadvertently stated the effective date for the new maximums/minimums was January 15, 2017. However, the FAA intended only to apply the newly inflated maximums/minimums for violations occurring on or after April 10, 2017. Therefore, the FAA amends § 13.301(c) to reflect the intended date of April 10, 2017.

List of Subjects in 14 CFR Part 13

Administrative practice and procedure, Air transportation, Hazardous materials transportation, Investigations, Law enforcement, Penalties.

The Correcting Amendment

In consideration of the foregoing, the Federal Aviation Administration amends Chapters I of title 14, Code of Federal Regulations by making the following correction:

PART 13—INVESTIGATIVE AND ENFORCEMENT PROCEDURES

1. The authority citation for part 13 continues to read as follows:

Authority: 18 U.S.C. 6002, 28 U.S.C. 2461 (note); 49 U.S.C. 106(g), 5121-5124, 40113-40114, 44103-44106, 44701-44703, 44709- 44710, 44713, 44725, 46101-46111, 46301, 46302 (for a violation of 49 U.S.C. 46504), 46304-46316, 46318, 46501-46502, 46504-46507, 47106, 47107, 47111, 47122, 47306, 47531-47532; 49 CFR 1.83.

2. In § 13.301, revise the heading of the table in paragraph (c) to read as follows:

§ 13.301 Inflation adjustments of civil monetary penalties.

* * * * *

(c) * * *

Table of Minimum and Maximum Civil Monetary Penalty Amounts for Certain Violations Occurring on or after April 10, 2017

* * * * *

Issued under the authority provided by 28 U.S.C. 2461 note, 49 U.S.C. 106(f) and 44701(a), and 51 U.S.C. 50901 in Washington, DC, on June 28, 2017.

Lirio Liu,
Director, Office of Rulemaking.

[FR Doc. 2017-14223 Filed 7-6-17; 8:45 am]

BILLING CODE 4910-13-P